DEPARTMENT OF ENERGY

Federal Energy Regulatory Commission

[Docket No. RP00-330-001]

Dauphin Island Gathering Partners; Notice of Proposed Changes in FERC Gas Tariff

July 28, 2000.

Take notice that on July 20, 2000, Dauphin Island Gathering Partners (DIGP) tendered for filing to become part of its FERC Gas Tariff, First Revised Volume No. 1, Substitute First Revised Sheet No. 221, with an effective date of March 27, 2000.

DIGP states that the tariff sheet corrected an error in the definition of long-term transactions and is proposed to become effective on March 27, 2000.

DIGP states that on June 15, 2000, it filed tariff sheets to comply with the Federal Energy Regulatory Commission final rule regarding the regulation of short-term interstate natural gas transportation services in Docket Nos. RM98-10 and RM98-12 (Order No. 637). In the instant filing, DIGP is filing to implement provisions of Order No. 637 regarding the waiver of the rate ceiling for short-term capacity release transactions. By Letter Order issued on July 13, 2000, these tariff sheets were accepted subject to the condition of correcting the above referenced language.

DIGP states that copies of the filing are being served contemporaneously on all participants listed on the service list in this proceeding and on all persons who are required by the Commission's regulations to be served with the application initiating these proceedings.

Any person desiring to protest this filing should file a protest with the Federal Energy Regulatory Commission, 888 First Street, NE., Washington, DC 20426, in accordance with Section 385.214 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call (202) 208-2222 for assistance).

Linwood A. Watson, Jr.,
Acting Secretary.

[FR Doc. 00-19598 Filed 8-2-00; 8:45 am]

BILLING CODE 6717-01-M